DEPARTMENT OF TRANSPORTATION

Federal Aviation Administration

14 CFR Part 39

[Docket No. FAA-2005-21342; Directorate Identifier 2004-NM-15-AD]

RIN 2120-AA64

Airworthiness Directives; Airbus Model A321 Series Airplanes

AGENCY: Federal Aviation Administration (FAA), Department of Transportation (DOT).

ACTION: Notice of proposed rulemaking (NPRM).

SUMMARY: The FAA proposes to adopt a new airworthiness directive (AD) for certain Airbus Model A321 series airplanes. This proposed AD would require repetitive measurements for correct control rod gap of the hold-open mechanism of all emergency doors, and corrective actions if necessary. This proposed AD would also require replacing the control rods with new, improved control rods, which would terminate the repetitive measurements. This proposed AD is prompted by a report that an operator found it impossible to lock emergency doors 2 and 3 in the open position. We are proposing this AD to prevent failure of the emergency doors to lock in the open position, which could interfere with passenger evacuation during an emergency.

DATES: We must receive comments on this proposed AD by July 5, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-21342; the directorate identifier for this docket is 2004-NM-15-AD.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

We invite you to submit any relevant written data, views, or arguments regarding this proposed AD. Send your comments to an address listed under ADDRESSES. Include “Docket No. FAA-2005-21342; Directorate Identifier 2004-NM-15-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A321 series airplanes. The DGAC advises that an operator found it impossible to lock emergency doors 2 and 3 in the open position due to an incorrect gap of the polyamide control rods of the hold-open release mechanisms. Investigation revealed that the polyamide control rod had lengthened due to water absorption and kept the hold-open mechanism constantly activated in the release position. This condition, if not corrected, could lead to failure of the emergency doors to lock in the open position, which could interfere with passenger evacuation during an emergency.

Relevant Service Information

Airbus has issued All Operators Telex (AOT) A320-52A1120, Revision 2, dated July 10, 2003. The AOT describes procedures for repetitive measurements to determine correct control rod gap of the hold-open mechanism of the emergency doors, and corrective actions if necessary. Corrective actions include shortening the polyamide control rod if it is too long or, if it is too short, replacing the rod with a new polyamide control rod or an aluminum control rod.

Airbus has issued Service Bulletin A320-52-1121, dated December 12, 2003. The service bulletin describes procedures for replacing the polyamide or interim aluminum control rods with new, improved, water-resistant control rods. Interim or final replacement of the polyamide control rod eliminates the need for the repetitive measurements described by the AOT for that control rod.

Accomplishing the actions specified in the service information is intended to adequately address the unsafe condition. The DGAC mandated the service information and issued French airworthiness directive F-2004-040, dated March 31, 2004, to ensure the continued airworthiness of these airplanes in France.

FAA's Determination and Requirements of the Proposed AD

This airplane model is manufactured in France and is type certificated for operation in the United States under the provisions of § 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously, except as discussed under “Differences Between French Airworthiness Directive and This Proposed AD.”

Differences Between French Airworthiness Directive and This Proposed AD

The applicability of French airworthiness directive F-2004-040 excludes airplanes on which Airbus Service Bulletin A320-52-1121 was done in service. However, we have not excluded those airplanes in the applicability of this proposed AD; rather, this proposed AD includes a requirement to accomplish the actions specified in that service bulletin. This requirement would ensure that the actions specified in the service bulletin and required by this proposed AD are accomplished on all affected airplanes. Operators must continue to operate the airplane in the configuration required by this proposed AD unless an alternative method of compliance is approved. This difference has been coordinated with the DGAC.

French airworthiness directive F-2004-040 specifies to “inspect” the hold-open mechanism. To prevent any confusion, rather than an “inspection” of the hold-open mechanism, this proposed AD would require a “measurement” to determine the control rod gap of the hold-open mechanism, as specified in the AOT.

Clarification of Service Information

The service information specifies procedures for reporting measurement results and accomplishment of the control rod replacement to the manufacturer; however, this proposed AD would not make this requirement. The FAA does not need this information from operators.

Costs of Compliance

This proposed AD would affect about 28 airplanes of U.S. registry.

The measurement to determine control rod gap would take about 2 work hours per airplane, at an average labor rate of $65 per work hour. Based on these figures, the estimated cost of the proposed measurement for U.S. operators is $3,640, or $130 per airplane, per measurement cycle.

The replacement of the control rods with new, improved, water-resistant control rods would take about 9 work hours per airplane, at an average labor rate of $65 per work hour. Required parts would cost about $400 per airplane. Based on these figures, the estimated cost of the proposed replacement for U.S. operators is $27,580, or $985 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-21342; Directorate Identifier 2004-NM-15-AD.

Comments Due Date

(a) The Federal Aviation Administration must receive comments on this AD action by July 5, 2005.

Affected ADs

(b) None.

Applicability

(c) This AD applies to Airbus Model A321 series airplanes, certificated in any category; except for those airplanes that have received Airbus Modification 33426 in production.

Unsafe Condition

(d) This AD was prompted by a report that an operator found it impossible to lock emergency doors 2 and 3 in the open position. We are issuing this AD to prevent failure of the emergency doors to lock in the open position, which could interfere with passenger evacuation during an emergency.

Compliance

(e) You are responsible for having the actions required by this AD performed within the compliance times specified, unless the actions have already been done.

Inspection of Emergency Exit Doors

(f) Within 600 flight hours after the effective date of this AD and thereafter at intervals not to exceed 600 flight hours, perform a measurement for correct gap of the control rod of the hold-open mechanism of all emergency doors, in accordance with Airbus All Operators Telex (AOT) A320-52A1120, Revision 2, dated July 10, 2003. If the gap of any control rod is not correct, prior to further flight, apply all necessary corrective actions in accordance with the AOT.

Optional Interim Terminating Action

(g) Replacing the polyamide control rod of any mechanism with an aluminum control rod prior to accomplishing paragraph (h) of this AD, as specified in AOT A320-52A1120, Revision 2, dated July 10, 2003, terminates the repetitive measurement required by paragraph (f) of this AD for that mechanism.

Final Terminating Action

(h) Within 18 months after the effective date of this AD, replace the polyamide or interim aluminum control rods of the release mechanisms with new, improved, water-resistant control rods according to the Accomplishment Instructions of Airbus Service Bulletin A320-52-1121, dated December 12, 2003. This replacement terminates the repetitive measurement required by paragraph (f) of this AD.

Actions Accomplished Per Previous Issue of Service Bulletin

(i) Actions accomplished before the effective date of this AD according to Airbus AOT A320-52A1120, dated June 5, 2003, or Revision 1, dated June 19, 2003, are considered acceptable for compliance with the corresponding actions specified in this AD.

No Reporting Requirement

(j) Although the service information specifies procedures for reporting measurement results and control rod replacement to the manufacturer, this AD does not require these reports.

Alternative Methods of Compliance (AMOCs)

(k) The Manager, International Branch, ANM-116, Transport Airplane Directorate, FAA, has the authority to approve AMOCs for this AD, if requested in accordance with the procedures found in 14 CFR 39.19.

Related Information

(l) French airworthiness directive F-2004-040, dated March 31, 2004, also addresses the subject of this AD.

Issued in Renton, Washington, on May 26, 2005.
Ali Bahrami,
Manager, Transport Airplane Directorate, Aircraft Certification Service.

[FR Doc. 05-11061 Filed 6-2-05; 8:45 am]

BILLING CODE 4910-13-P